DEPARTMENT OF HOMELAND SECURITY

Federal Emergency Management Agency

44 CFR Part 65

[Docket ID FEMA-2008-0020]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below of the modified BFEs for each community listed. These modified BFEs have been published in newspapers of local circulation and ninety (90) days have elapsed since that publication. The Mitigation Division Director of FEMA resolved any appeals resulting from this notification.

The modified BFEs are not listed for each community in this notice. However, this final rule includes the address of the Chief Executive Officer of the community where the modified BFE determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p.376.

§ 65.4 [Amended]

2. The tables published under the authority of § 65.4 are amended as follows:

State and county | Location and case No. | Date and name of newspaper where notice was published | Chief executive officer of community | Effective date of modification | Community No.
Alabama:
Elmore (FEMA Docket No.: B-1030) | City of Millbrook (08-04-3794P) | December 11, 2008, December 18, 2008, The Millbrook Independent | The Honorable Al Kelley, Mayor, City of Millbrook, 5010 Brownswood Circle, Millbrook, AL 36054 | April 17, 2009 | 010370
Montgomery (FEMA Docket No.: B-1030) | City of Montgomery (07-04-3037P) | December 11, 2008, December 18, 2008, Montgomery Advertiser | The Honorable Bobby N. Bright, Mayor, City of Montgomery, P.O. Box 1111, Montgomery, AL 36101 | April 17, 2009 | 010174
Arizona:
Apache (FEMA Docket No.: B-1033) | Town of Eager (08-09-0712P) | October 24, 2008, October 31, 2008, White Mountain Independent | The Honorable Bill Greenwood, Town Manager, Town of Eager, P.O. Box 1300, Eager, AZ 85925 | March 2, 2009 | 040103
Coconino (FEMA Docket No.: B-1030) | City of Flagstaff (08-09-1360P) | December 15, 2008, December 22, 2008, Arizona Daily Sun | The Honorable Sara Presler, Mayor, City of Flagstaff, 211 West Aspen Avenue, Flagstaff, AZ 86001 | November 28, 2008 | 040020
Maricopa (FEMA Docket No.: B-1033) | City of Phoenix (08-09-1412P) | December 18, 2008, December 25, 2008, Arizona Business Gazette | The Honorable Phil Gordon, Mayor, City of Phoenix, 200 West Washington Street, 11th Floor, Phoenix, AZ 85003 | November 28, 2008 | 040051
Arkansas: Craighead (FEMA Docket No.: B-1042) | City of Jonesboro (07-06-2616P) | August 11, 2008, August 18, 2008, The Jonesboro Sun | The Honorable Doug Forman, Mayor, City of Jonesboro, 515 West Washington Avenue, Jonesboro, AR 72401 | December 16, 2008 | 050048
California: Riverside (FEMA Docket No.: B-1039) | City of La Quinta (08-09-0307P) | January 10, 2008, January 17, 2008, The Press Enterprise | The Honorable Donald Adolph, Mayor, City of La Quinta, P.O. Box 1504, La Quinta, CA 92247 | December 18, 2007 | 060709
Colorado:
Arapahoe (FEMA Docket No.: B-1023) | Unincorporated areas of Arapahoe County (08-08-0760P) | November 14, 2008, November 21, 2008, Rocky Mountain News | The Honorable Susan Beckman, Chairman, Arapahoe County Board of Commissioners, 5334 South Prince Street, Littleton, CO 80166-0001 | March 23, 2009 | 080011
Arapahoe (FEMA Docket No.: B-1027) | City of Littleton (08-08-0251P) | November 13, 2008, November 20, 2008, Littleton Independent | The Honorable Doug Clark, Mayor, City of Littleton, 2255 West Berry Avenue, Littleton, CO 80165 | March 20, 2009 | 080017
Denver (FEMA Docket No.: B-1023) | City and County of Denver (08-08-0760P) | November 14, 2008, November 21, 2008, Rocky Mountain News | The Honorable John W. Hickenlooper, Mayor, City and County of Denver, 1437 Bannock Street, Suite 350, Denver, CO 80202 | March 23, 2009 | 080046
Denver (FEMA Docket No.: B-1039) | City and County of Denver (08-08-0948P) | December 17, 2008, December 24, 2008, Rocky Mountain News | The Honorable John W. Hickenlooper, Mayor, City and County of Denver, 1437 Bannock Street, Suite 350, Denver, CO 80202 | December 9, 2008 | 080046
Douglas (FEMA Docket No.: B-1033) | Unincorporated areas of Douglas County (07-08-0979P) | December 4, 2008, December 11, 2008, Douglas County News-Press | The Honorable Melanie A. Worley, Chairperson, Douglas County Board of County Commissioners, 100 Third Street, Castle Rock, CO 80104 | April 10, 2009 | 080049
El Paso (FEMA Docket No.: B-1027) | Unincorporated areas of El Paso County (08-08-0381P) | November 26, 2008, December 3, 2008, Tri Lakes Tribune | The Honorable Dennis Hisey, Chairman, El Paso County Board of Commissioners, 27 East Vermijo Avenue, Colorado Springs, CO 80903 | April 2, 2009 | 080059
El Paso (FEMA Docket No.: B-1027) | Town of Monument (08-08-0381P) | November 26, 2008, December 3, 2008, Tri Lakes Tribune | The Honorable Catherine Green, Manager, Town of Monument, P.O. Box 325, Monument, CO 80132 | April 2, 2009 | 080064
El Paso (FEMA Docket No.: B-1033) | Town of Palmer Lake (07-08-0979P) | December 3, 2008, December 10, 2008, The Tribune | The Honorable John Cressman, Mayor, Town of Palmer Lake, P.O. Box 208, Palmer Lake, CO 80133 | April 10, 2009 | 080065
Garfield (FEMA Docket No.: B-1030) | Unincorporated areas of Garfield County (07-08-0852P) | August 14, 2008, August 21, 2008, Citizen Telegram | The Honorable Trési Houpt, Chairman, Garfield County Board of Commissioners, 108 Eighth Street, Glenwood Springs, CO 81601 | December 19, 2008 | 080205
Garfield (FEMA Docket No.: B-1030) | City of Rifle (07-08-0852P) | August 14, 2008, August 21, 2008, Citizen Telegram | The Honorable John Hier, City Manager, City of Rifle, 202 Railroad Avenue, Rifle, CO 81650 | December 19, 2008 | 085078
Jefferson (FEMA Docket No.: B-1027) | City of Westminster (08-08-0666P) | November 13, 2008, November 20, 2008, Westminster Window | The Honorable Nancy McNally, Mayor, City of Westminster, 4800 West 92nd Avenue, Westminster, CO 80031 | March 20, 2009 | 080008
Connecticut:
New Haven (FEMA Docket No.: B-1042) | Town of Hamden (08-01-0419P) | July 24, 2008, July 31, 2008, New Haven Register | The Honorable Craig Henrici, Mayor, Town of Hamden, Town Hall, 2750 Dixwell Avenue, Hamden, CT 06518 | July 30, 2008 | 090078
Florida:
Collier (FEMA Docket No.: B-1030) | City of Marco Island (08-04-5939P) | December 8, 2008, December 15, 2008, Naples Daily News | The Honorable William D. Trotter, Chairman, City Council City of Marco Island, 50 Bald Eagle Drive, Marco Island, FL 34145 | April 14, 2009 | 120426
Duval (FEMA Docket No.: B-1033) | City of Jacksonville Beach (08-04-6323P) | December 26, 2008, January 2, 2009, The Beaches Leader | The Honorable Fland Sharp, Mayor, City of Jacksonville Beach, 11 North Third Street, Jacksonville Beach, FL 32250 | December 22, 2008 | 120078
Orange (FEMA Docket No.: B-1027) | City of Orlando (08-04-3498P) | November 13, 2008, November 20, 2008, Orlando Weekly | The Honorable John Dyer, Mayor, City of Orlando, P.O. Box 4990, Orlando, FL 32802 | March 20, 2009 | 120186
Walton (FEMA Docket No.: B-1027) | Unincorporated areas of Walton County (08-04-3897P) | November 13, 2008, November 20, 2008, The DeFuniak Springs Herald Breeze | The Honorable Larry Jones, Chairman, Walton County Board of Commissioners, 117 Montgomery Circle, DeFuniak Springs, FL 32435 | March 20, 2009 | 120317
Georgia:
Barrow (FEMA Docket No.: B-1033) | Unincorporated areas of Barrow County (08-04-5370P) | December 10, 2008, December 17, 2008, The Barrow County News | Mr. Douglas H. Garrison, Chairman, Barrow County Board of Commissioners, 233 East Broad Street, Winder, GA 30680 | April 16, 2009 | 130497
Hall (FEMA Docket No.: B-1033) | Unincorporated areas of Hall County (08-04-4322P) | December 11, 2008, December 18, 2008, Gainesville Times | Mr. Tom Oliver, Chairman, Hall County Board of Commissioners, P.O. Box 1435, Gainesville, GA 30503 | April 17, 2009 | 130466
Jackson (FEMA Docket No.: B-1033) | Unincorporated areas of Jackson County (08-04-4322P) | December 10, 2008, December 17, 2008, The Jackson Herald | Ms. Pat Bell, Chairperson, Jackson County Board of Commissioners, 67 Athens Street, Jefferson, GA 30549 | April 17, 2009 | 130345
Jackson (FEMA Docket No.: B-1033) | Unincorporated areas of Jackson County (08-04-5370P) | December 10, 2008, December 17, 2008, The Jackson Herald | Ms. Pat Bell, Chairman, Jackson County Board of Commissioners, 67 Athens Street, Jefferson, GA 30549 | April 16, 2009 | 130345
Idaho:
Teton (FEMA Docket No.: B-1042) | Unincorporated areas of Teton County (07-10-0061P) | March 20, 2008, March 27, 2009, Teton Valley News | The Honorable Larry Young, Chairman, Teton County Board of Commissioners, P.O. Box 756, Driggs, ID 83422 | March 13, 2008 | 160230
Teton (FEMA Docket No.: B-1042) | Unincorporated areas of Teton County (07-10-0770P) | May 8, 2008, May 15, 2008, Teton Valley News | The Honorable Larry Young, Chairman, Teton County Board of Commissioners, P.O. Box 756, Driggs, ID 83422 | September 12, 2008 | 160230
Illinois:
DuPage (FEMA Docket No.: B-1036) | Unincorporated areas of DuPage County (08-05-0519P) | March 7, 2008, March 14, 2008, Daily Herald | The Honorable Robert J. Schillerstorm, Chairman, DuPage County Board, 505 North County Farm Road, Wheaton, IL 60187 | July 14, 2008 | 170197
DuPage (FEMA Docket No.: B-1036) | City of Emhurst (08-05-0519P) | March 7, 2008, March 14, 2008, Daily Herald | The Honorable Thomas D. Marcucci, Mayor, City of Elmhurst, 209 North York Street, Elmhurst, IL 60126 | July 14, 2008 | 170205
Kansas: Sedgwick (FEMA Docket No.: B-1027) | City of Wichita (09-07-0232P) | November 24, 2008, December 1, 2008, The Wichita Eagle | The Honorable Carl Brewer, Mayor, City of Wichita, 455 North Main Street, Wichita, KS 67202 | November 14, 2008 | 200328
Kentucky: Louisville-Jefferson (FEMA Docket No.: B-1044) | Louisville-Jefferson County Metropolitan Government (08-04-3793P) | November 14, 2008, November 21, 2008, The Courier Journal | The Honorable Jerry E. Abramson, Mayor, Louisville-Jefferson County, Metropolitan Government, 527 West Jefferson Street, Louisville, KY 40202 | March 23, 2009 | 210120
Maryland: Carroll (FEMA Docket No.: B-1027) | Unincorporated areas of Carroll County (08-03-0921P) | November 12, 2008, November 19, 2008, Carroll County Times | The Honorable Julia Gouge, Commissioner, Carroll County Commissioners, 225 North Center Street, Westminster, MD 21157 | March 19, 2009 | 240015
Missouri:
Phelps (FEMA Docket No.: B-1039) | City of Rolla (08-07-0803P) | October 10, 2008, October 16, 2008, Rolla Daily News | The Honorable William Jenks III, Mayor, City of Rolla, P.O. Box 979, Rolla, MO 65401 | February 20, 2009 | 290285
Stoddard (FEMA Docket No.: B-1030) | City of Dexter (07-07-1785P) | February 14, 2008, February 21, 2008, Daily Statesman | The Honorable Joe E. Weber, Mayor, City of Dexter, 301 East Stoddard Street, Dexter, MO 63841 | May 22, 2008 | 290424
Stoddard (FEMA Docket No.: B-1030) | Unincorporated areas of Stoddard County (07-07-1785P) | February 14, 2008, February 21, 2008, Daily Statesman | Mr. Greg Mathis, Presiding Commissioner, Stoddard County, P.O. Box 110, Bloomfield, MO 63825-0110 | May 22, 2008 | 290845
New Hampshire: Cheshire (FEMA Docket No.: B-1030) | City of Keene (08-01-0182P) | February 28, 2008, March 6, 2008, The Keene Sentinel | The Honorable Philip Dale Pregent, Mayor, City of Keene, Three Washington Street, Keene, NH 03431 | March 20, 2008 | 330023
New York: Seneca (FEMA Docket No.: B-1019) | Town of Seneca Falls (08-02-1344P) | October 9, 2008, October 16, 2008, Reveille Between the Lakes | The Honorable Duane Moore, Councilman, Town of Seneca Falls, 32 State Street, Seneca Falls, NY 13148 | April 2, 2009 | 360756
North Carolina:
Onslow (FEMA Docket No.: B-1036) | City of Jacksonville (08-04-3999P) | The Daily News, December 23, 2008, December 30, 2008 | The Honorable Sammy Phillips, Mayor, City of Jacksonville, P.O. Box 128, Jacksonville, NC 28541 | January 14, 2009 | 370178
Randolph (FEMA Docket No.: B-1030) | City of Archdale (08-04-4163P) | December 4, 2008, December 11, 2008, The Archdale Trinity-News | The Honorable Bert Lance-Stone, Mayor, City of Archdale, 307 Balfour Drive, P.O. Box 14068, Archdale, NC 27263 | November 13, 2008 | 370273
Wake (FEMA Docket No.: B-1027) | Wake County (Unincorporated Areas) (08-04-0177P) | November 12, 2008, November 19, 2008, The News and Observer | Mr. David C. Cooke, Manager, Wake County, P.O. Box 550, Raleigh, NC 27602 | March 19, 2009 | 370368
Wake (FEMA Docket No.: B-1027) | Town of Knightdale (08-04-0177P) | November 12, 2008, November 19, 2008, Eastern Wake News | The Honorable Russell B. Killen, Mayor, Town of Knightdale, 1103 Belfry Drive, Knightdale, NC 27545 | March 19, 2009 | 370241
Wake (FEMA Docket No.: B-1027) | City of Raleigh (08-04-0177P) | November 12, 2008, November 19, 2008, The News and Observer | The Honorable Charles Meeker, Mayor, City of Raleigh, P.O. Box 590, Raleigh, NC 27602 | March 19, 2009 | 370243
Ohio:
Licking (FEMA Docket No.: B-1033) | City of Newark (08-05-4680P) | December 8, 2008, December 15, 2008, The Newark Advocate | The Honorable Bob Diebold, Mayor, City of Newark, 40 West Main Street, Newark, OH 43055 | April 14, 2009 | 390335
Montgomery (FEMA Docket No.: B-1039) | Unincorporated areas of Montgomery County (08-05-2057P) | July 23, 2008, July 30, 2008, Englewood Independent | The Honorable Deborah A. Lieberman, County Commissioner, 451 West Third Street, 11th Floor, Dayton, OH 45422 | November 27, 2008 | 390775
South Carolina:
Beaufort (FEMA Docket No.: B-1027) | Unincorporated areas of Beaufort County (08-04-4422P) | November 21, 2008, November 28, 2008, The Beaufort Gazette | The Honorable Gary T. Kubic, Beaufort County Administrator, P.O. Box 1228, Beaufort, SC 29901-1228 | March 30, 2009 | 450025
Jasper (FEMA Docket No.: B-1027) | Town of Hardeeville (08-04-4422P) | November 19, 2008, November 26, 2008, Jasper County Sun | The Honorable Bronco Bostick, Mayor, Town of Hardeeville, 205 East Main Street, Hardeeville, SC 29927 | March 30, 2009 | 450113
Jasper (FEMA Docket No.: B-1027) | Unincorporated areas of Jasper County (08-04-4422P) | November 19, 2008, November 26, 2008, Jasper County Sun | The Honorable George Hood, Chairman, Jasper County Council, P.O. Box 1149, Ridgeland, SC 29936 | March 30, 2009 | 450112
Tennessee: Sumner (FEMA Docket No.: B-1027) | City of Gallatin (08-04-5293P) | November 13, 2008, November 20, 2008, The Gallatin Newspaper | The Honorable Jo Ann Graves, Mayor, City of Gallatin, 132 West Main Street, Gallatin, TN 37066 | March 20, 2009 | 470185
Texas:
Bexar (FEMA Docket No.: B-1027) | City of San Antonio (08-06-1354P) | November 12, 2008, November 19, 2008, San Antonio Express News | The Honorable Phil Hardberger, Mayor, City of San Antonio, P.O. Box 839966, San Antonio, TX 78283 | March 19, 2009 | 480045
Brazos (FEMA Docket No.: B-1027) | City of College Station (08-06-2506P) | November 14, 2008, November 21, 2008, Bryan College Station Eagle | The Honorable Ben White, Mayor, City of College Station, P.O. Box 9960, College Station, TX 77842 | March 23, 2009 | 480083
Caldwell (FEMA Docket No.: B-1036) | Unincorporated areas of Caldwell County (07-06-2617P) | October 9, 2008, October 16, 2008, Lockhart Post Register | The Honorable H. T. Wright, Caldwell County Judge, 110 South Main Street, Lockhart, TX 78644 | February 20, 2009 | 480094
Caldwell (FEMA Docket No.: B-1036) | Town of Martindale (07-06-2617P) | October 9, 2008, October 16, 2008, Lockhart Post Register | The Honorable Patricia Peterson, Mayor, Town of Martindale, P.O. Box 365, Martindale, TX 78655 | February 20, 2009 | 481587
Collin (FEMA Docket No.: B-1033) | Unincorporated areas of Collin County (08-06-1493P) | December 5, 2008, December 12, 2008, McKinney Courier-Gazette | The Honorable Keith Self, Collin County Judge, 210 South McDonald Street, Suite 626, McKinney, TX 75069 | April 13, 2009 | 480130
Collin (FEMA Docket No.: B-1033) | City of Lowry Crossing (08-06-1493P) | December 5, 2008, December 12, 2008, McKinney Courier-Gazette | The Honorable Gary Piatt, Mayor, City of Lowry Crossings, 1405 South Bridge Farmer Rd, McKinney, TX 75069 | April 13, 2009 | 481631
Collin (FEMA Docket No.: B-1033) | City of McKinney (08-06-1493P) | December 5, 2008, December 12, 2008, McKinney Courier-Gazette | The Honorable Bill Whitfield, Mayor, City of McKinney, 222 North Tennessee, McKinney, TX 75069 | April 13, 2009 | 480135
Collin (FEMA Docket No.: B-1033) | City of McKinney (08-06-1994P) | December 8, 2008, December 15, 2008, McKinney Courier-Gazette | The Honorable Bill Whitfield, Mayor, City of McKinney, 222 North Tennessee, McKinney, TX 75069 | April 14, 2009 | 480135
Denton (FEMA Docket No.: B-1030) | City of Denton (08-06-2890P) | December 10, 2008, December 17, 2008, Denton Record-Chronicle | The Honorable Mark A. Burroughs, Mayor, City of Denton, 215 East McKinney Street, Denton, TX 76201 | April 16, 2009 | 480194
Denton (FEMA Docket No.: B-1027) | Town of Northlake (07-06-2017P) | November 13, 2008, November 20, 2008, Fort Worth Star Telegram and Denton Record Chronicle | The Honorable Robin Young, Mayor, Town of Northlake, 1301 FM 407, Northlake, TX 76247 | March 20, 2009 | 480782
Ellis (FEMA Docket No.: B-1039) | City of Waxahachie (08-06-1778P) | October 1, 2008, October 8, 2008, Waxahachie Daily Light | The Honorable Ron Wilkinson, Mayor, City of Waxahachie, P.O. Box 757, Waxahachie, TX 75168-0757 | February 5, 2009 | 480211
Fort Bend (FEMA Docket No.: B-7727) | Unincorporated Areas of Fort Bend County (06-06-BI97P) | June 21, 2007, June 28, 2007, Fort Bend Herald | The Honorable Robert E. Herbert, PhD, Fort Bend County Judge, 301 Jackson Street, Richmond, Texas 77469 | September 27, 2007 | 480228
Fort Bend (FEMA Docket No.: B-7727) | Fort Bend County, M.U.D. # 23 (06-06-BI97P) | June 21, 2007, June 28, 2007, Fort Bend Herald | The Honorable Ellen Hughes, District President, Fort Bend County Municipal Utility, District No. 23, 1715 Misty Fawn Lane, Fresno, Texas 77545 | September 27, 2007 | 481590
Fort Bend (FEMA Docket No.: B-7727) | City of Missouri City (06-06-BI97P) | June 21, 2007, June 28, 2007, Fort Bend Herald | The Honorable Allen Owen, Mayor, City of Missouri City, 1522 Texas Parkway, Missouri City, Texas 77459 | September 27, 2007 | 480304
Guadalupe (FEMA Docket No.: B-1036) | Unincorporated areas of Guadalupe County (07-06-2617P) | October 16, 2008, October 23, 2008, Seguin Gazette Enterprise | The Honorable Mike Wiggins, Guadalupe County Judge, 307 West Court Street, Seguin, Texas 78155 | February 20, 2009 | 480266
Harris (FEMA Docket No.: B-1030) | Unincorporated areas of Harris County (07-06-1885P) | December 11, 2008, December 18, 2008, Houston Chronicle | The Honorable Ed Emmett, Harris County Judge, 1001 Preston Street, Suite 911, Houston, TX 77002 | November 28, 2008 | 480287
Harris (FEMA Docket No.: B-1030) | Unincorporated areas of Harris County (08-06-1677P) | December 4, 2008, December 11, 2008, Houston Chronicle | The Honorable Ed Emmett, Harris County Judge, 1001 Preston Street, Suite 911, Houston, TX 77002 | April 10, 2009 | 480287
Hays (FEMA Docket No.: B-1039) | City of Buda (07-06-1994P, re-issues 06-06-B986P) | May 9, 2007, May 16, 2007, Hays County Free Press | The Honorable John Trube, Mayor, City of Buda, P.O. Box 1218, Buda, TX 78610 | August 15, 2007 | 481640
Hays (FEMA Docket No.: B-1039) | Unincorporated areas of Hays County (07-06-1994P, re-issues 06-06-B986P) | May 9, 2007, May 16, 2007, Hays County Free Press | The Honorable Jim Powers, Hays County Judge, 111 East San Antonio Street, Suite 300, San Marcos, TX 78666 | August 15, 2007 | 480321
Hays (FEMA Docket No.: B-1036) | Unincorporated areas of Hays County (07-06-2617P) | October 16, 2008, October 23, 2008, San Marcos Daily Record | The Honorable Liz Sumter, Hays County Judge, 111 East San Antonio Street, Suite 300, San Marcos, TX 78666 | February 20, 2009 | 480321
Hunt (FEMA Docket No.: B-1042) | City of Greenville (08-06-1111P) | July 30, 2008, August 6, 2008, Herald Banner | The Honorable Tom Oliver, Mayor, City of Greenville, P.O. Box 1049, Greenville, TX 75401 | December 4, 2008 | 485473
Johnson (FEMA Docket No.: B-1023) | City of Burleson (08-06-0984P) | November 5, 2008, November 12, 2008, Burleson Star | The Honorable Kenneth Shetter, Mayor, City of Burleson, 141 West Renfro Street, Burleson, TX 76028 | March 12, 2009 | 485459
Johnson (FEMA Docket No.: B-1030) | City of Burleson (08-06-3114P) | December 10, 2008, December 17, 2008, Burleson Star | The Honorable Kenneth Shetter, Mayor, City of Burleson, 141 West Renfro Street, Burleson, TX 76028 | April 16, 2009 | 485459
Johnson (FEMA Docket No.: B-1030) | Unincorporated areas of Johnson County (08-06-1603P) | December 10, 2008, December 17, 2008, Cleburne Times-Review | The Honorable Roger Harmon, Judge, Johnson County, Johnson County Courthouse, 2 North Main Street, Cleburne, TX 76031 | December 29, 2008 | 480879
Johnson (FEMA Docket No.: B-1030) | Unincorporated areas of Johnson County (08-06-3114P) | December 10, 2008, December 17, 2008, Cleburne Times-Review | The Honorable Roger Harmon, Johnson County Judge, Johnson County Courthouse, 2 North Main Street, Cleburne, TX 76031 | April 16, 2009 | 480879
Tarrant (FEMA Docket No.: B-1027) | City of Fort Worth (07-06-2017P) | November 13, 2008, November 20, 2008, Fort Worth Star Telegram and Denton Record-Chronicle | The Honorable Mike J. Moncrief, Mayor, City of Fort Worth, 1000 Throckmorton Street, Fort Worth, TX 76102 | March 20, 2009 | 480596
Wisconsin:
Dunn (FEMA Docket No.: B-1027) | Village of Boyceville (07-05-5620P) | November 19, 2008, November 26, 2008, Tribune Press Reporter | The Honorable Gilbert Krueger, President, Village of Boyceville, 903 Main Street, Boyceville, WI 54725 | March 26, 2009 | 550119

(Catalog of Federal Domestic Assistance No. 97.022, “Flood Insurance.”)

Dated: May 21, 2009.
Deborah S. Ingram,
Acting Deputy Assistant Administrator for Mitigation, Mitigation Directorate, Department of Homeland Security, Federal Emergency Management Agency.

[FR Doc. E9-12843 Filed 6-2-09; 8:45 am]

BILLING CODE 9110-12-P